DEPARTMENT OF ENERGY

Federal Energy Regulatory Commission

Combined Notice of Filings #1

Take notice that the Commission received the following electric corporate filings:

Docket Numbers: EC21-32-000.

Applicants: Montauk Holdings USA, LLC, Montauk Renewables, Inc., Bowerman Power LFG, LLC, Pico Energy, LLC, TX LFG Energy, LP, Tulsa LFG, LLC.

Description: Application for Authorization Under Section 203 of the Federal Power Act of Montauk Holdings USA, LLC, et al.

Filed Date: 12/7/20.

Accession Number: 20201207-5215.

Comments Due: 5 p.m. ET 12/28/20.

Take notice that the Commission received the following exempt wholesale generator filings:

Docket Numbers: EG21-49-000.

Applicants: 325MK 8ME LLC.

Description: Self-Certification of Exempt Wholesale Generator Status of 325MK 8ME LLC.

Filed Date: 12/4/20.

Accession Number: 20201204-5261.

Comments Due: 5 p.m. ET 12/28/20.

Docket Numbers: EG21-50-000.

Applicants: Chalk Point Power, LLC.

Description: Notice of Self-Certification of Exempt Wholesale Generator Status of Chalk Point Power, LLC.

Filed Date: 12/4/20.

Accession Number: 20201204-5262.

Comments Due: 5 p.m. ET 12/28/20.

Take notice that the Commission received the following electric rate filings:

Docket Numbers: ER10-2331-073.

Applicants: J.P. Morgan Ventures Energy Corporation.

Description: Response to November 6, 2020 Deficiency Letter of the J.P. Morgan Ventures Energy Corporation.

Filed Date: 12/7/20.

Accession Number: 20201207-5225.

Comments Due: 5 p.m. ET 12/28/20.

Docket Numbers: ER15-1471-010; ER16-915-003; ER15-1672-009; ER10-2861-008; ER19-2287-001; ER16-2010-004; ER19-2289-001; ER19-2294-001; ER12-1308-011; ER16-711-007; ER16-2561-004; ER13-1504-009; ER19-2305-001.

Applicants: Blue Sky West, LLC, Comanche Solar PV, LLC, Evergreen Wind Power II, LLC, Fountain Valley Power, L.L.C., Goal Line L.P., Hancock Wind, LLC, KES Kingsburg, L.P., Mesquite Power, LLC, Palouse Wind, LLC, Pio Pico Energy Center, LLC, Sunflower Wind Project, LLC, SWG Arapahoe, LLC, Valencia Power, LLC.

Description: Response to November 6, 2020 Deficiency Letter of Blue Sky West, LLC, et. al.

Filed Date: 12/7/20.

Accession Number: 20201207-5232.

Comments Due: 5 p.m. ET 12/28/20.

Docket Numbers: ER20-2721-002.

Applicants: Smoky Mountain Transmission LLC.

Description: Tariff Amendment: Resubmission of Interconnection and Transmission Service Agreement to be effective 2/7/2021.

Filed Date: 12/8/20.

Accession Number: 20201208-5026.

Comments Due: 5 p.m. ET 12/29/20.

Docket Numbers: ER21-117-001.

Applicants: System Energy Resources, Inc.

Description: Tariff Amendment: SERI UPSA Ratebase Credit to be effective 10/16/2020.

Filed Date: 12/7/20.

Accession Number: 20201207-5123.

Comments Due: 5 p.m. ET 12/28/20.

Docket Numbers: ER21-129-001.

Applicants: System Energy Resources, Inc.

Description: Tariff Amendment: SERI UPSA Excess ADIT Credit to be effective 10/17/2020.

Filed Date: 12/8/20.

Accession Number: 20201208-5084.

Comments Due: 5 p.m. ET 12/29/20.

Docket Numbers: ER21-195-001.

Applicants: LS Power Grid California, LLC.

Description: Tariff Amendment: LS Power Grid California Amended Filing to be effective 12/31/9998.

Filed Date: 12/8/20.

Accession Number: 20201208-5137.

Comments Due: 5 p.m. ET 12/29/20.

Docket Numbers: ER21-598-000.

Applicants: PJM Interconnection, L.L.C.

Description: § 205(d) Rate Filing: Original WMPA, Service Agreement No. 5860; Queue No. AF2-099 to be effective 11/10/2020.

Filed Date: 12/8/20.

Accession Number: 20201208-5019.

Comments Due: 5 p.m. ET 12/29/20.

Docket Numbers: ER21-599-000.

Applicants: Smoky Mountain Transmission LLC.

Description: Tariff Cancellation: Notice of Cancellation to be effective 2/7/2021.

Filed Date: 12/8/20.

Accession Number: 20201208-5030.

Comments Due: 5 p.m. ET 12/29/20.

Docket Numbers: ER21-600-000.

Applicants: AEP Texas Inc.

Description: § 205(d) Rate Filing: AEPTX-LCRA TSC (Ft. Stockton Sw) Facilities Development Agreement to be effective 11/19/2020.

Filed Date: 12/8/20.

Accession Number: 20201208-5033.

Comments Due: 5 p.m. ET 12/29/20.

Docket Numbers: ER21-601-000.

Applicants: AEP Texas Inc.

Description: § 205(d) Rate Filing: AEPTX-Sparta Solar 1st A&R Generation Interconnection Agreement to be effective 11/23/2020.

Filed Date: 12/8/20.

Accession Number: 20201208-5038.

Comments Due: 5 p.m. ET 12/29/20.

Docket Numbers: ER21-602-000.

Applicants: AEP Texas Inc.

Description: § 205(d) Rate Filing: AEPTX-Taygete Energy Project (Taygete 1) 3rd A&R Generation Interconnection Agmt to be effective 12/2/2020.

Filed Date: 12/8/20.

Accession Number: 20201208-5047.

Comments Due: 5 p.m. ET 12/29/20.

Docket Numbers: ER21-603-000.

Applicants: Midcontinent Independent System Operator, Inc., Ameren Transmission Company of Illinois, Duke Energy Indiana, LLC.

Description: § 205(d) Rate Filing: 2020-12-08_SA 3598 Duke Energy-ATXI TIA to be effective 11/30/2020.

Filed Date: 12/8/20.

Accession Number: 20201208-5063.

Comments Due: 5 p.m. ET 12/29/20.

Docket Numbers: ER21-604-000.

Applicants: Alabama Power Company.

Description: Tariff Cancellation: Charlton Solar Energy Center LGIA Termination Filing to be effective 12/8/2020.

Filed Date: 12/8/20.

Accession Number: 20201208-5067.

Comments Due: 5 p.m. ET 12/29/20.

Docket Numbers: ER21-605-000.

Applicants: Mid-Atlantic Interstate Transmission, LLC, PJM Interconnection, L.L.C.

Description: § 205(d) Rate Filing: Mid-Atlantic Interstate Transmission submits Revised IA SA No. 4577 to be effective 2/7/2021.

Filed Date: 12/8/20.

Accession Number: 20201208-5072.

Comments Due: 5 p.m. ET 12/29/20.

Docket Numbers: ER21-606-000.

Applicants: Tri-State Generation and Transmission Association, Inc.

Description: § 205(d) Rate Filing: Rate Schedule FERC No. 317 between Tri-State and MCREA to be effective 2/26/2020.

Filed Date: 12/8/20.

Accession Number: 20201208-5086.

Comments Due: 5 p.m. ET 12/29/20.

Take notice that the Commission received the following electric securities filings:

Docket Numbers: ES21-11-000; ES21-12-000; ES21-13-000; ES21-14-000; ES21-15-000; ES21-16-000

Applicants: Massachusetts Electric Company, Nantucket Electric Company, The Narragansett Electric Company, Niagara Mohawk Power Corporation, New England Hydro-Transmission Electric Company, Inc., National Grid Generation LLC.

Description: Joint Application Under Section 204 of the Federal Power Act for Authorization to Issue Securities of Massachusetts Electric Company, et al.

Filed Date: 12/4/20.

Accession Number: 20201204-5260.

Comments Due: 5 p.m. ET 12/28/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2020.
Kimberly D. Bose,
Secretary.

[FR Doc. 2020-27438 Filed 12-11-20; 8:45 am]

BILLING CODE 6717-01-P